DEPARTMENT OF AGRICULTURE

Agricultural Marketing Service

[TM-00-200]

Notice of Program Continuation; Correction

AGENCY: Agricultural Marketing Service, USDA.

ACTION: Notice; correction.

SUMMARY: The Agricultural Marketing Service (AMS) is correcting a notice that appeared in the Federal Register on January 12, 2000. The notice announces that the Federal-State Marketing Improvement Program (FSMIP) was allocated $1,200,000 in the Federal budget for Fiscal Year 2000; however, pertinent information in the SUMMARY and DATES sections of the notice was omitted.

FOR FURTHER INFORMATION CONTACT: FSMIP Staff, Transportation and Marketing, Agricultural Marketing Service, U.S. Department of Agriculture, Room 4006 South Building, P.O. Box 96456, Washington, D.C. 20090-6456.

SUPPLEMENTARY INFORMATION:

Background

AMS published a notice that appeared in the January 12, 2000 Federal Register at 65 FR 1846. The notice announced that the FSMIP was allocated $1,200, 000 in the Federal budget for fiscal year 2000. Pertinent information in the Summary and Dates sections of the notice was omitted. In the SUMMARY, a reference to community-based organizations was omitted. In the DATES section, reference to a two-round consideration of proposals was not made. Accordingly, this document makes the appropriate corrections to those sections of the notice.

Correction

In FR Doc. 00-714, published on January 12, 2000, on page 1846, first column, the SUMMARY and DATES sections are corrected to read:

“SUMMARY: Notice is hereby given that the Federal-State Marketing Improvement Program (FSMIP) was allocated $1,200,000 in the Federal budget for FY 2000. Funds remain available for this program. States interested in obtaining funds under this program are invited to submit proposals. While only State Departments of Agriculture or other appropriate State Agencies are eligible to apply for funds, State Agencies are encouraged to involve industry groups and community-based organizations in the development of proposals and the conduct of projects.” and

“DATES: Funds will be allocated on the basis of two rounds of consideration. Proposals received by February 18, 2000 will be considered during the first round. Proposals which are not selected for funding during the first round and other proposals received by May 1, 2000 will be considered during the second round.”

Dated: February 3, 2000.
Eileen Stommes,
Deputy Administrator, Transportation and Marketing.

[FR Doc. 00-2977 Filed 2-8-00; 8:45 am]

BILLING CODE 3410-02-M